DEPARTMENT OF LABOR

Employment and Training Administration

[TA-W-39,509A]

E-Town Sportswear Elizabethtown, KY; Notice of Termination of Investigation

Pursuant to section 221 of the Trade Act of 1974, an investigation was initiated on June 25, 2001, in response to a petition filed on behalf of workers at E-Town Sportswear, Elizabethtown, Kentucky.

An active petition covering these workers remains in effect (TA-W-37,230). Consequently, further investigation in this case would serve no purpose, and the investigation has been terminated.

Signed in Washington, DC, this 29th day of August, 2001.
Linda G. Poole,
Certifying Officer, Division of Trade Adjustment Assistance.

[FR Doc. 01-22689 Filed 9-10-01; 8:45 am]

BILLING CODE 4510-30-M